DEPARTMENT OF THE INTERIOR

Fish and Wildlife Service

Notice of Issuance of Permit for Marine Mammals

On July 11, 2001, a notice was published in the Federal Register (66 FR 36295), that an application had been filed with the Fish and Wildlife Service by Harbor Branch Oceanographic Institution, Fort Pierce, FL, for a permit (PRT-038605) to take for scientific research 6 captive held, 2 captive born, as well as 1 Pre-Act, West Indian manatee (Trichechus manatus) for scientific research.

Notice is hereby given that on October 30, 2001, as authorized by the provisions of the Marine Mammal Protection Act of 1972, as amended (16 U.S.C. 1361 et seq.), and the Endangered Species Act of 1973, as amended (16 U.S.C. 1531, et seq.), the Fish and Wildlife Service authorized the requested permit subject to certain conditions set forth therein.

On July 25, 2001, a notice was published in the Federal Register (66 FR 38739), that an application had been filed with the Fish and Wildlife Service by Michael Walker for a permit (PRT-045478) to import one polar bear taken from the Northern Beaufort Sea population, Canada for personal use.

Notice is hereby given that on October 22, 2001, as authorized by the provisions of the Marine Mammal Protection Act of 1972, as amended (16 U.S.C. 1361 et seq.) the Fish and Wildlife Service authorized the requested permit subject to certain conditions set forth therein.

On July 25, 2001, a notice was published in the Federal Register (66 FR 38739), that an application had been filed with the Fish and Wildlife Service by John D. Harris for a permit (PRT-045396) to import one polar bear taken from the Lancaster Sound population, Canada for personal use.

Notice is hereby given that on October 22, 2001, as authorized by the provisions of the Marine Mammal Protection Act of 1972, as amended (16 U.S.C. 1361 et seq.) the Fish and Wildlife Service authorized the requested permit subject to certain conditions set forth therein.

On July 25, 2001, a notice was published in the Federal Register (66 FR 38739), that an application had been filed with the Fish and Wildlife Service by Michael E. Walker for a permit (PRT-045478) to import one polar bear taken from the Northern Beaufort Sea population, Canada for personal use.

Notice is hereby given that on October 24, 2001, as authorized by the provisions of the Marine Mammal Protection Act of 1972, as amended (16 U.S.C. 1361 et seq.) the Fish and Wildlife Service authorized the requested permit subject to certain conditions set forth therein.

Documents and other information submitted for these applications are available for review by any party who submits a written request to the U.S. Fish and Wildlife Service, Division of Management Authority, 4401 North Fairfax Drive, Room 700, Arlington, Virginia 22203, telephone (703) 358-2104 or fax (703) 358-2281.

Dated: November 2, 2001.
Anna Barry,
Senior Permit Biologist, Branch of Permits, Division of Management Authority.

[FR Doc. 01-30257 Filed 12-5-01; 8:45 am]

BILLING CODE 4310-55-P